ENVIRONMENTAL PROTECTION AGENCY

40 CFR Parts 60, 63, 260, 261, 264, 265, 266, 270, and 271

[FRL-6870-8]

Hazardous Waste Combustion National Emission Standards for Hazardous Air Pollutants (NESHAP) Toolkit; Notice of Availability

AGENCY: Environmental Protection Agency.

ACTION: Availability of new implementation toolkit related to final regulations.

SUMMARY: The Environmental Protection Agency (EPA) is providing notice of the August 10, 2000 release of the Hazardous Waste Combustion NESHAP Toolkit on the Internet. The Toolkit provides implementation guidance and other materials related to the final regulation NESHAP: Final Standards for Hazardous Air Pollutants for Hazardous Waste Combustors (64 FR 52828, September 30, 1999). The purpose of the Toolkit is to assist all interested stakeholders, including the general public, regulators and industry, in understanding the implementation aspects of the new standards and our new approach to permitting the facilities or sources subject to them. The Toolkit's primary focus is on general and process-oriented information and includes: descriptions of Resource Conservation and Recovery Act (RCRA) and Clean Air Act (CAA) permitting requirements and policies, a time line of important compliance dates, a list of affected facilities or sources, links to related websites, a list of RCRA and CAA regulatory contacts, and commonly used acronyms. The Toolkit does not provide guidance on any technical requirements associated with the rule (e.g., test methods, monitoring techniques, etc.).

FOR FURTHER INFORMATION CONTACT: For general information, you can contact the RCRA Hotline at 1-800-424-9346 or TDD 1-800-553-7672 (hearing impaired). In the Washington, D.C. metropolitan area, call 703-412-9810 or TDD 703-412-3323. The RCRA Hotline is open Monday through Friday from 9 a.m. to 6 p.m. Eastern Standard Time. To access the Toolkit, please see our Internet page: http://www.epa.gov/epaoswer/hazwaste/combust/toolkit/toolkit.htm.

For specific information related to the Toolkit, you can contact Ms. Rosemary Workman at 703-308-8725 or workman.rosemary@epa.gov. For specific questions related to the final rulemaking for the new standards, you can contact Mr. David Hockey at 703-308-8846 or hockey.david@epa.gov. For questions related to the implementation of the new standards for a specific facility or source, please contact either your regional or state RCRA or CAA regulatory officials.

SUPPLEMENTARY INFORMATION: On September 30, 1999, we finalized the National Emission Standards for Hazardous Air Pollutants (NESHAP) for three categories of hazardous waste combustors (HWCs): incinerators, cement kilns and light-weight aggregate kilns (64 FR 52828, September 30, 1999). We promulgated these standards under the joint authority of the CAA and RCRA. Before the final rule went into effect, we regulated air emissions from the three types of HWCs primarily under the authority of section 3004(a) of RCRA. With the release of the final rule, however, we now regulate air emissions from these sources primarily under the CAA. Even though both statutes give us the authority to regulate air emissions, we determined that having standards and permitting requirements in both sets of implementing regulations would be duplicative. For this reason, we used the final rule as a vehicle for changing our approach to permitting air emissions from HWCs. Thus, with one exception, we are now requiring that such emissions be permitted only under title V of the CAA. The exception concerns section 3005(c)(3) of RCRA, which requires that each RCRA permit contain the terms and conditions necessary to protect human health and the environment. Under this provision of RCRA, if a regulatory authority determines that more stringent conditions are necessary to protect human health and environment for a particular facility, then that regulatory authority may impose those conditions in the facility's RCRA permit.

As an Internet-based guidance, the Toolkit is available only through the world wide web. It can be accessed at http://www.epa.gov/epaoswer/hazwaste/combust/toolkit/toolkit.htm.

To access other available electronic documents related to the new standards, specifically, or hazardous waste combustion, generally, please see our Internet page: http://www.epa.gov/epaoswer/hazwaste/combust.htm.

Dated: September 6, 2000.
Elizabeth A. Cotsworth,
Director, Office of Solid Waste.

[FR Doc. 00-23942 Filed 9-19-00; 8:45 am]

BILLING CODE 6560-50-P